DEPARTMENT OF TRANSPORTATION

Coast Guard

33 CFR Parts 100, 117 and 165

[USCG-2001-8767]

Safety Zones, Security Zone, Drawbridges and Special Local Regulations

AGENCY: Coast Guard, DOT.

ACTION: Notice of temporary rules issued.

SUMMARY: This document provides required notice of substantive rules adopted by the Coast Guard and temporarily effective between October 1, 2000 and December 31, 2000 which were not published in the Federal Register. This quarterly notice lists temporary local regulations, drawbridge regulations, security zones, and safety zones of limited duration and for which timely publication in the Federal Register was not possible.

DATES: This notice lists temporary Coast Guard regulations that became effective and were terminated between October 1, 2000 and December 31, 2000.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal holidays. You may electronically access the public docket for this notice on the Internet at http://dms.dot.gov.

FOR FURTHER INFORMATION CONTACT: For questions on this notice, contact Lieutenant Bruce Walker, Office of Regulations and Administrative Law, telephone (202) 267-6233. For questions on viewing, or on submitting material to the docket, contact Dorothy Beard, Chief, Dockets, Department of Transportation (202) 866-9329.

SUPPLEMENTARY INFORMATION: District Commanders and Captains of the Port (COTP) must be immediately responsive to the safety needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. However, the affected public is informed of these regulations through Local Notices to Mariners, press releases, and other means. Moreover, actual notification is provided by Coast Guard patrol vessels enforcing the restrictions imposed by the regulation. Because mariners are notified by Coast Guard officials on-going scene prior to enforcement action, Federal Register notice is not required to place the special local regulation, security zone, or safety zone in effect. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations, drawbridge regulations and security zones listed in this notice have been exempted from review under Executive Order 12866 because of their emergency nature, or limited scope and temporary effectiveness.

The following regulations were placed in effect temporarily during the period October 1, 2000 and December 31, 2000, unless otherwise indicated.

Dated: February 9, 2001.
S.G. Venckus,
Chief, Office of Regulations and Administrative Law.

COTP Quarterly Report
COTP docket | Location | Type | Effective date
CHARLESTON 00-125 | CHARLESTON HARBOR, SC | SAFETY ZONE | 12/09/2000
JACKSONVILLE 00-102 | ST. JOHNS RIVER, MAYPORT, FL | SECURITY ZONE | 10/14/2000
JACKSONVILLE 00-103 | ST. JOHNS RIVER, JACKSONVILLE, FL | SAFETY ZONE | 11/02/2000
JACKSONVILLE 00-118 | FERNANDINA BEACH, FL | SAFETY ZONE | 11/25/2000
KENTUCKY 00-001 | OHIO RIVER, M. 461.8 TO 477.6 | SAFETY ZONE | 10/19/2000
LOUISVILLE 00-002 | OHIO RIVER, M. 639.5 TO 641.5 | SAFETY ZONE | 11/01/2000
MSO MOBILE 00-002 | BACK BAY OF BILOXI | SAFETY ZONE | 11/04/2000
NEW ORLEANS 00-031 | LWR MISSISSIPPI RIVER, M. 299 TO 232 | SAFETY ZONE | 10/13/2000
NEW ORLEANS 00-032 | VIDALIA BRIDGE M. 363.3, LMR, AHOP | SAFETY ZONE | 10/20/2000
NEW ORLEANS 00-033 | LWR MISSISSIPPI RIVER, M. 94.4 TO M. 95.8 | SECURITY ZONE | 10/20/2000
NEW ORLEANS 00-034 | LWR MISSISSIPPI RIVER, M. 94 TO 96 | SAFETY ZONE | 10/27/2000
NEW ORLEANS 00-035 | LWR MISSISSIPPI RIVER, M. 94 TO 96 | SAFETY ZONE | 11/02/2000
NEW ORLEANS 00-037 | LWR MISSISSIPPI RIVER, M. 231 | SAFETY ZONE | 12/09/2000
NEW ORLEANS 00-038 | OUACHITA RIVER, M. 165 TO 168 | SAFETY ZONE | 12/02/2000
NEW ORLEANS 00-040 | LWR MISSISSIPPI RIVER, M. 112 TO 114 | SAFETY ZONE | 12/08/2000
PADUCAH 00-016 | TENNESSEE RIVER, M. 647.5 TO 647.7 | SAFETY ZONE | 11/17/2000
PADUCAH 00-017 | TENNESSEE RIVER, M. 463.7 TO 464 | SAFETY ZONE | 11/25/2000
PADUCAH 00-018 | UPPER MISSISSIPPI RIVER M. 16.2 | SAFETY ZONE | 10/24/2000
SAN DIEGO 00-009 | OCEANSIDE, CA | SAFETY ZONE | 10/15/2000
SAN DIEGO 00-010 | LAKE HAVASU, COLORADO RIVER, AZ | SAFETY ZONE | 10/08/2000
SAN DIEGO 00-011 | SAN DIEGO, CA | SAFETY ZONE | 10/10/2000
SAN DIEGO 00-012 | SAN DIEGO BAY, SAN DIEGO, CA | SAFETY ZONE | 10/20/2000
SAN DIEGO 00-013 | LAKE MOOVALYA REGION, COLORADO RIVER | SAFETY ZONE | 11/24/2000
SAN FRANCISCO BAY 00-007 | SAN FRANCISCO BAY, SAN FRANCISCO, CA | SAFETY ZONE | 10/11/2000
SAN FRANCISCO BAY 00-008 | MONTERERY BAY, CA | SAFETY ZONE | 10/14/2000
SAN FRANCISCO BAY 00-010 | SAN FRANCISCO BAY, SAN FRANCISCO, CA | SAFETY ZONE | 10/24/2000
SAN FRANCISCO BAY 00-011 | SAN FRANCISCO, CA | SECURITY ZONE | 11/16/2000
TAMPA 00-121 | TAMPA BAY, FL | SAFETY ZONE | 12/05/2000
TAMPA 00-136 | TAMPA BAY, FL | SAFETY ZONE | 12/31/2000

District Quarterly Report
District docket | Location | Type | Effective date
01-00-222 | DORCHESTER BAY, MA | DRAWBRIDGE OPERATION | 10/03/2000
01-00-225 | BOSTON, MA | SAFETY ZONE | 10/08/2000
01-00-231 | HUDSON RIVER, JERSEY CITY, NJ | SAFETY ZONE | 10/14/2000
01-00-232 | BOSTON, MA | SECURITY ZONE | 10/03/2000
01-00-235 | BOSTON, MA | SAFETY ZONE | 10/12/2000
01-00-241 | HUDSON RIVER, JERSEY CITY, NJ | SAFETY ZONE | 10/28/2000
01-00-249 | EAST RIVER, NEW YORK, NY | SAFETY ZONE | 12/14/2000
01-00-252 | PORT OF NEW YORK/NEW JERSEY | SAFETY ZONE | 12/05/2000
01-00-255 | FIRST NIGHT FIREWORKS, BOSTON, MA | SAFETY ZONE | 12/31/2000
05-00-049 | PATAPSCO RIVER, CHESAPEAKE BAY, MD | SAFETY ZONE | 10/16/2000
05-00-050 | LITTLE CREEK ENTRANCE, VIRGINIA BEACH, VA | SAFETY ZONE | 11/07/2000
05-00-052 | NORFOLK HARBOR REACH, VA | SECURITY ZONE | 10/18/2000
05-00-056 | FORT MCHENRY CHANNEL, BALTIMORE, MD | SAFETY ZONE | 12/28/2000
07-00-107 | CHARLESTON HARBOR, SC | SPECIAL LOCAL | 12/09/2000
07-00-115 | GREAT BAY, SAINT THOMAS, USVI | SPECIAL LOCAL | 11/21/2000
07-00-117 | TAMPA BAY, ST. PETERSBURG, FL | SPECIAL LOCAL | 11/16/2000
07-00-122 | HILLSBOROUGH RIVER | DRAWBRIDGE OPERATION | 12/10/2000
09-00-106 | CHICAGO CHASE, CHICAGO, IL | SAFETY ZONE | 10/07/2000
09-00-113 | CHICAGO,IL | SAFETY ZONE | 10/06/2000
09-00-114 | MUSKEGON LAKE | SECURITY ZONE | 10/29/2000
09-00-115 | NAVY PIER, LAKE MICHIGAN CHICAGO HARBOR, IL | SAFETY ZONE | 11/04/2000
09-00-117 | LAKE MICHIGAN, CHICAGO HARBOR, IL | SAFETY ZONE | 11/11/2000
09-00-118 | CHICAGO RIVER | SECURITY ZONE | 11/10/2000
09-00-119 | CHICAGO RIVER, CHICAGO, IL | SAFETY ZONE | 11/18/2000
09-00-123 | LAKE ERIE, MAUMEE RIVER, OHIO | SAFETY ZONE | 12/31/2000
11-00-013 | MARE ISLAND STRAIT, NAPA RIVER, CA | DRAWBRIDGE OPERATION | 11/04/2000

[FR Doc. 01-3897 Filed 2-15-01; 8:45 am]

BILLING CODE 4910-15-M